DEPARTMENT OF HEALTH AND HUMAN SERVICES

Meeting of the Chronic Fatigue Syndrome Advisory Committee

AGENCY: Department of Health and Human Services, Office of the Secretary, Office of Public Health and Science.

ACTION: Notice.

SUMMARY: As stipulated by the Federal Advisory Committee Act, the U.S. Department of Health and Human Services is hereby giving notice that the Chronic Fatigue Syndrome Advisory Committee (CFSAC) will hold a meeting. The meeting will be open to the public.

DATES: The meeting will be held on Monday, May 10, 2010. The meeting will be held from 9 a.m. until 5 p.m.

ADDRESSES: Department of Health and Human Services; Room 800, Hubert H. Humphrey Building; 200 Independence Avenue, SW., Washington, DC 20201. For a map and directions to the Hubert H. Humphrey building, please visit http://www.hhs.gov/about/hhhmap.html.

FOR FURTHER INFORMATION CONTACT: Wanda K. Jones, Dr.P.H.; Executive Secretary, Chronic Fatigue Syndrome Advisory Committee, Department of Health and Human Services; 200 Independence Avenue, SW., Hubert Humphrey Building, Room 712E; Washington, DC 20201. Direct all CFSAC e-mail inquiries to cfsac@hhs.gov.

SUPPLEMENTARY INFORMATION: CFSAC was established on September 5, 2002. The Committee was established to advise, consult with, and make recommendations to the Secretary, through the Assistant Secretary for Health, on a broad range of topics including: (1) The current state of the knowledge and research about the epidemiology and risk factors relating to chronic fatigue syndrome, and identifying potential opportunities in these areas; (2) current and proposed diagnosis and treatment methods for chronic fatigue syndrome; and (3) development and implementation of programs to inform the public, health care professionals, and the biomedical, academic, and research communities about advances in chronic fatigue syndrome.

The agenda for this meeting is being developed. The agenda will be posted on the CFSAC Web site, http://www.hhs.gov/advcomcfs, when it is finalized. The meeting will be broadcast over the Internet as a real-time streaming video. It will also be recorded and archived on the CFSAC Web site for viewers to watch at their convenience.

Public attendance at the meeting is limited to space available. Individuals must provide a government-issued photo ID for entry into the building where the meeting is scheduled to be held. Those attending the meeting will need to sign in prior to entering the meeting room. Individuals who plan to attend and need special assistance, such as sign language interpretation or other reasonable accommodations, should notify the designated contact person at cfsac@hhs.gov in advance.

The Committee is most interested in receiving public comment on the CFSAC charter, which can be found at http://www.hhs.gov/advcomcfs/charter/index.html. Members of the public will have the opportunity to provide comment at the meeting if pre-registered. Individuals who wish to address the Committee during the public comment session must pre-register by April 26, 2010, via e-mail at cfsac@hhs.gov.

Time slots for public comment will be limited to three (3) minutes per speaker; no exceptions will be made. Individuals registering should submit a copy of their testimony in advance to cfsac@hhs.gov, prior to the close of business on April 26, 2010.

Members of the public who wish to have printed material distributed to CFSAC members for review should submit, at a minimum, one copy of the material to the Executive Secretary at cfsac@hhs.gov, prior to close of business (5 p.m. EDT) on Monday, April 26, 2010. Submissions are limited to five typewritten pages.

If you wish to be identified, ensure that all written testimony includes only your name and does not include personal contact information. If you wish to remain anonymous, please notify the CFSAC support team when materials are submitted to cfsac@hhs.gov.

Dated: March 29, 2010.
Wanda K. Jones,
Executive Secretary, CFSAC.

[FR Doc. 2010-7337 Filed 3-31-10; 8:45 am]

BILLING CODE 4150-42-P